DEPARTMENT OF TRANSPORTATION

Federal Highway Administration

Rescinding the Notice of Intent for an Environmental Impact Statement (EIS): Hancock and Pearl River Counties, MS

AGENCY: Federal Highway Administration (FHWA), DOT.

ACTION: Rescind Notice of Intent to prepare an EIS.

SUMMARY: This notice rescinds the Notice of Intent for preparing an Environmental Impact Statement (EIS) for proposed highway, State Route 603/43, to provide a connection between Interstate 10 south of Kiln and Interstate 59 in the City of Picayune, Hancock and Pearl River Counties, Mississippi. The original Notice of Intent for this EIS process was published in the Federal Register on October 26, 2009.

FOR FURTHER INFORMATION CONTACT: Claiborne Barnwell, Project Development Team Leader, Federal Highway Administration, Mississippi Division, 100 West Capitol Street, Suite 1026, Jackson, Mississippi 39269, Telephone: (601) 965-4217 (e-mail: claiborne.barnwell@dot.gov).

SUPPLEMENTARY INFORMATION:

Background

The Federal Highway Administration (FHWA) in cooperation with the Mississippi Department of Transportation (MDOT) initiated an Environmental Impact Statement (EIS) with a Notice of Intent October 26, 2009, to provide a connector road, to be built to interstate standards, between Interstate 10 and Interstate 59, a distance of approximately 30-miles.

Due to funding constraints the Notice of Intent is rescinded.

Andrew H. Hughes,
Division Administrator, Mississippi, Federal Highway Administration, Jackson, Mississippi.

[FR Doc. 2011-21746 Filed 8-25-11; 8:45 am]

BILLING CODE P